DEPARTMENT OF TRANSPORTATION

Federal Highway Administration

Notice To Rescind Notice of Intent To Prepare Environmental Impact Statement/Draft Section 4(f) Evaluation, MD 28/MD 198 Corridor Study, Montgomery and Prince George's County, Maryland

AGENCY: Federal Highway Administration (FHWA), DOT.

ACTION: Notice to rescind Notice of Intent to prepare an Environmental Impact Statement/Draft Section 4(f) Evaluation.

SUMMARY: The Federal Highway Administration is issuing this notice to advise the public that FHWA is rescinding its Notice of Intent to prepare an Environmental Impact Statement/Draft Section 4(f) Evaluation for a proposed roadway improvement project in Montgomery and Prince George's Counties, Maryland (Federal Register Vol. 68, No. 51827; FR Doc. 03-22037) is being withdrawn and an Environmental Assessment (EA), in lieu of an EIS, is being prepared for this proposed project.

FOR FURTHER INFORMATION CONTACT: Jeanette Mar, Environmental Program Manager, Federal Highway Administration, Maryland Division, 10 South Howard Street, Suite 2450, Baltimore, Maryland 21201, (410) 779-7152, or email: jeanette.mar@dot.gov.

SUPPLEMENTARY INFORMATION: The Federal Highway Administration (FHWA), in cooperation with the Maryland State Highway Administration (SHA), is advising the general public that SHA conducted studies of the potential environmental impacts associated with the proposed roadway improvement project in Montgomery and Prince George's Counties, Maryland along the MD 28/MD 198 Corridor between MD 97 (Georgia Avenue) and I-95, a distance of approximately 10.6 miles.

The purpose of the MD 28/MD 198 Corridor Improvement Study is to improve local traffic safety and operations for motorists, bicyclists, and pedestrians traveling along the MD 28/MD 198 corridor and across intersecting roads, while managing access; and, preserve the rural and suburban quality of life by addressing localized traffic issues, while considering local planning visions and state growth policies for communities along the corridor. MD 28 and MD 198 is experiencing peak hour congestion in areas along portions of the corridor between I-95 and MD 97, particularly east of MD 97, in the vicinity of US 29 and Burtonsville commercial area, and near Sweitzer Lane. Local operational and capacity deficiencies are projected to result from planned and future development in and around the study area. The resulting congestion is expected to cause stop-and-go conditions along the roadways, especially at study-area intersections projected to experience failing conditions by 2040. The roadway segments between the intersections will experience peak-hour capacity constraints imposed by: Projected traffic volumes; the absence of mid-block through lanes on two-lane roadways; the absence of storage lanes for left turns; and the absence of deceleration lanes for right turns. Local area master plans describe objectives for the corridor roadway that include retaining the rural character of adjacent communities and protecting sensitive environmental areas. Recommended features in these plans include the construction of hiker-biker trails and sidewalks and the addition of landscaping.

Alternatives under consideration include taking no action, installing on-road bicycle provisions, a shared use path and segments of sidewalk, and widening existing MD 28/MD 198 to a four- or six-lane roadway in some sections, with various options for access management via frontage roads or median treatments, and intersection improvements including additional turn lanes or installing roundabouts. The EA will be available for public and agency review and comment prior to a Public Hearing. Public notice will be given of the availability of the EA for review and of the time and place of this hearing. Public Informational Workshops were held in June 2014 and March 2015 to solicit opinions and ideas on proposed improvements from local citizens.

To ensure that the full range of issues related to this proposed action are addressed and all significant issues identified, comments and suggestions are invited from all interested parties. Comments or questions concerning this proposed action and the determination that an EA is the proper environmental document should be directed to FHWA at the address provided above.

(Catalog of Federal Domestic Assistance Program Number 20.205, Highway Research, Planning and Construction. The regulations implementing Executive Order 12372 regarding intergovernmental consultation on Federal programs and activities apply to this program.)

Gregory Murrill,
Division Administrator, Federal Highway Administration, Baltimore, Maryland.

[FR Doc. 2016-19197 Filed 8-11-16; 8:45 am]

BILLING CODE 4910-22-P